DEPARTMENT OF THE INTERIOR

National Park Service

[NPS-WASO-NAGPRA-14063; PPWOCRADN0-PCU00RP14.R50000]

Notice of Inventory Completion: University of Massachusetts Amherst, Department of Anthropology, Amherst, MA

AGENCY: National Park Service, Interior.

ACTION: Notice.

SUMMARY: The University of Massachusetts Amherst, Department of Anthropology, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of Massachusetts Amherst, Department of Anthropology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Massachusetts Amherst, Department of Anthropology, at the address in this notice by October 30, 2013.

ADDRESSES: Rae Gould, Repatriation Coordinator, University of Massachusetts Amherst, Department of Anthropology, 215 Machmer Hall, 240 Hicks Way, Amherst, MA 01003, telephone (413) 545-2702, email rgould@anthro.umass.edu.

SUPPLEMENTARY INFORMATION: Notice is here given in accordance with the Native American Graves Protection and Repatriation Act (NAGPRA), 25 U.S.C. 3003, of the completion of an inventory of human remains and associated funerary objects under the control of the University of Massachusetts Amherst, Department of Anthropology. The human remains and associated funerary objects were removed from the Kramer Site, Ross County, OH.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Massachusetts Amherst, Department of Anthropology, professional staff in consultation with representatives of the Absentee-Shawnee Tribe of Indians of Oklahoma; Bad River Band of the Lake Superior Tribe of Chippewa Indians of the Bad River Reservation, Wisconsin; Cherokee Nation; Chippewa-Cree Indians of the Rocky Boy's Reservation, Montana; Delaware Nation, Oklahoma; Delaware Tribe of Indians; Eastern Band of Cherokee Indians; Eastern Shawnee Tribe of Oklahoma; Hannahville Indian Community, Michigan; Ho-Chunk Nation of Wisconsin; Keweenaw Bay Indian Community, Michigan; Kickapoo Traditional Tribe of Texas; Kickapoo Tribe of Indians of the Kickapoo Reservation in Kansas; Kickapoo Tribe of Oklahoma; Leech Lake Band of Minnesota Chippewa Tribe, Minnesota; Little Traverse Bay Band of Odawa Indians, Michigan; Menominee Indian Tribe of Wisconsin; Miami Tribe of Oklahoma; Ottawa Tribe of Oklahoma; Peoria Tribe of Indians of Oklahoma; Pokagon Band of Potawatomi Indians, Michigan and Indiana; Prairie Band Potawatomi Nation (previously listed as the Prairie Band of Potawatomi Nation, Kansas); Red Cliff Band of Lake Superior Chippewa Indians of Wisconsin; Saginaw Chippewa Indian Tribe of Michigan; Shawnee Tribe; and the Turtle Mountain Band of Chippewa Indians of North Dakota (hereafter referred to as “The Tribes”).

Representatives of the University of Massachusetts Amherst, Department of Anthropology, also contacted but did not consult with the Bay Mills Indian Community, Michigan; Bois Forte Band (Nett Lake) of Minnesota Chippewa Tribe, Minnesota; Citizen Potawatomi Nation, Oklahoma; Fond du Lac Band of Minnesota Chippewa Tribe, Minnesota; Forest County Potawatomi Community, Wisconsin; Grand Portage Band of Minnesota Chippewa Tribe, Minnesota; Grand Traverse Band of Ottawa and Chippewa Indians, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Match-e-be-nash-she-wish Band of Pottawatomi Indians of Michigan; Mille Lacs Band of Minnesota Chippewa Tribe, Minnesota; Nottawaseppi Huron Band of the Potawatomi, Michigan (previously listed as the Huron Potawatomi, Inc.); Quechan Tribe of the Fort Yuma Indian Reservation, California & Arizona; Red Lake Band of Chippewa Indians, Minnesota; Sault Ste. Marie Tribe of Chippewa Indians, Michigan; Seneca Nation of Indians (previously listed as the Seneca Nation of New York); Seneca-Cayuga Tribe of Oklahoma; Sokaogon Chippewa Community, Wisconsin; St. Croix Chippewa Indians of Wisconsin; Tonawanda Band of Seneca (previously listed as the Tonawanda Band of Seneca Indians of New York); United Keetoowah Band of Cherokee Indians in Oklahoma; White Earth Band of Minnesota Chippewa Tribe, Minnesota; Wyandotte Nation; and the Grand River Band of Ottawa Indians, Michigan, a non-Federally recognized Indian group.

History and Description of the Remains

In 1967, Dr. Olaf Prufer and Dr. Oriol Pi-Sunyer, then Professors at the University of Massachusetts Amherst, Department of Anthropology, led an archeological field school focused primarily on the Kramer site (33Ro33), in Union Township, Ross County, OH. Archeologists have identified the Kramer site as a large Fort Ancient village with a small central mound. The 1967 excavation took place in the village area, southeast of the mound. Human remains representing, at minimum, one individual were removed from the Kramer site by Dr. Oriol Pi-Sunyer and the field school students. These human remains, along with the associated funerary objects, were transferred to the University of Massachusetts Amherst, Department of Anthropology, for curation. No known individuals were identified. The 762 associated funerary objects are 4 projectile points, 61 stone tools, 1 stone pipe fragment, 106 bone tools, 40 bone beads, 5 bone tubes, 40 animal teeth, 8 fish hook and fragments, 47 shell tools, 1 shell bead, 4 soil samples, 2 clay fragments, 1 wattle and daub fragment, 1 charred wood fragment, 2 wasp nest fragments, 43 lots of faunal remains, 198 lots of pottery fragments, 164 lots of stone fragments, and 34 lots of shell fragments.

Based on an archeological assessment of the cultural materials, the Kramer site is associated with the Fort Ancient Tradition of the Scioto River drainage in Ohio. The Fort Ancient Tradition spanned from 950 to 1450 A.D. and possibly into the 1700's according to some archeologists. The cultural material recovered from the Kramer Site is associated with all phases of the Fort Ancient Tradition. The University of Massachusetts Amherst, Department of Anthropology, considers the Kramer site to be associated with the Fort Ancient Tradition.

Multiple lines of evidence—guided by tribal consultations—including geographic, oral tradition, archeological, historical records, and treaties demonstrate a shared group identity between these human remains and the modern-day tribes of the Absentee-Shawnee Tribe of Indians of Oklahoma; Eastern Shawnee Tribe of Oklahoma; Saginaw Chippewa Indian Tribe of Michigan; and the Shawnee Tribe.

Determinations Made by the University of Massachusetts Amherst, Department of Anthropology

Officials of the University of Massachusetts Amherst, Department of Anthropology, have determined that:

• Pursuant to 25 U.S.C. 3001(9), the human remains described in this notice represent the physical remains of one individual of Native American ancestry.

• Pursuant to 25 U.S.C. 3001(3)(A), the 762 objects described in this notice are reasonably believed to have been placed with or near individual human remains at the time of death or later as part of the death rite or ceremony.

• Pursuant to 25 U.S.C. 3001(2), there is a relationship of shared group identity that can be reasonably traced between the Native American human remains and associated funerary objects to the Absentee-Shawnee Tribe of Indians of Oklahoma; Eastern Shawnee Tribe of Oklahoma; Saginaw Chippewa Indian Tribe of Michigan; and the Shawnee Tribe.

Additional Requestors and Disposition

Lineal descendants or representatives of any Indian tribe or Native Hawaiian organization not identified in this notice that wish to request transfer of control of these human remains and associated funerary objects should submit a written request with information in support of the request to Rae Gould, Repatriation Coordinator, University of Massachusetts Amherst, Department of Anthropology, 215 Machmer Hall, 240 Hicks Way, Amherst, MA 01003, telephone (413) 545-2702, email rgould@anthro.umass.edu, by October 30, 2013. After that date, if no additional requestors have come forward, transfer of control of the human remains and associated funerary objects to the Absentee-Shawnee Tribe of Indians of Oklahoma; Eastern Shawnee Tribe of Oklahoma; Saginaw Chippewa Indian Tribe of Michigan; and the Shawnee Tribe may proceed.

The University of Massachusetts Amherst, Department of Anthropology is responsible for notifying The Tribes that this notice has been published.

Dated: September 12, 2013.
David Tarler,
Acting Manager, National NAGPRA Program.

[FR Doc. 2013-23815 Filed 9-27-13; 8:45 am]

BILLING CODE 4312-50-P